DEPARTMENT OF THE INTERIOR

Bureau of Land Management

[OR-020-1020-DE; G 0-0365]

Meeting Notice for the Southeast Oregon Resource Advisory Council

AGENCY: Bureau of Land Management (BLM), Burns District.

SUMMARY: The Southeast Oregon Resource Advisory Council (SEORAC) will meet at the Bureau of Land Management (BLM), Lakeview Interagency Office, HC 10 Box 337, 1300 South “G” Street, Lakeview, Oregon, 97630, 8 a.m. to 5 p.m., Pacific Daylight Time (PDT), on Thursday, October 19, 2000, and conduct a resource-related field tour from 8 a.m. to 4 p.m., PDT, on Friday, October 20, 2000. Topics to be discussed by the Council include the Lakeview Resource Management Plan update, the Steens Mountain Designation update, Wild Horse and Burro funding/priorities, Fremont National Forest road maintenance, set dates for SEORAC 2001 meetings, and such other matters as may reasonably come before the Council. The entire meeting is open to the public. Public comment is scheduled for 11 a.m. to 11:30 a.m., PDT, on Thursday, October 19, 2000.

FOR FURTHER INFORMATION CONTACT: Additional information concerning the SEORAC may be obtained from Holly LaChapelle, Resource Assistant, Burns District Office, HC 74-12533 Hwy 20 West, Hines, Oregon, 97738, (541) 573-4501, or Holly_LaChapelle@or.blm.gov or from the following web site <http://www.or.blm.gov/SEOR-RAC>.

Dated: September 11, 2000.
Thomas H. Dyer,
Burns District Manager.

[FR Doc. 00-23878 Filed 9-15-00; 8:45 am]

BILLING CODE 4310-33-M